DEPARTMENT OF COMMERCE

National Oceanic and Atmospheric Administration

50 CFR Part 679

[Docket No. 160225147-6147-01]

RIN 0648-BF83

Fisheries of the Exclusive Economic Zone off Alaska; Modifications to Recordkeeping and Reporting Requirements

AGENCY: National Marine Fisheries Service (NMFS), National Oceanic and Atmospheric Administration (NOAA), Commerce.

ACTION: Proposed rule; request for comments.

SUMMARY: NMFS issues a proposed rule that would modify the recordkeeping and reporting requirements for the groundfish fisheries in the Gulf of Alaska and the Bering Sea/Aleutian Islands management areas. This proposed rule is organized into four actions. Under the first action, NMFS would implement a requirement for tender vessel operators to use the applications software “tLandings” to prepare electronic landing reports. This action is necessary to improve timeliness and reliability of landing reports for catcher vessels delivering to tender vessels for use in catch accounting and inseason management. Under the second action, NMFS would modify the definition of a buying station. This action is necessary to clarify the different requirements that apply to tender vessels and land-based buying stations. Under the third action, NMFS would remove the requirement for buying stations to complete the buying station report because this report is no longer necessary. Under the fourth action, NMFS would revise the definition of a mothership to remove unnecessary formatting without changing the substance of the definition. This proposed rule is intended to promote the goals and objectives of the Magnuson-Stevens Fishery Conservation and Management Act, the Fishery Management Plan for Groundfish of the Bering Sea and Aleutian Islands Management Area (BSAI FMP), the Fishery Management Plan for Groundfish of the Gulf of Alaska (GOA FMP), and other applicable laws.

DATES: Submit comments on or before August 31, 2016.

ADDRESSES: You may submit comments, identified by NOAA-NMFS-2016-0021, by any of the following methods:

• Electronic Submission: Submit all electronic public comments via the Federal eRulemaking Portal. Go to www.regulations.gov/#!docketDetail;D=NOAA-NMFS-2016-0021, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personally identifiable information (e.g., name, address), confidential business information, or otherwise sensitive information submitted voluntarily by the sender will be publicly accessible. NMFS will accept anonymous comments (enter “N/A” in the required fields if you wish to remain anonymous).

Electronic copies of the Regulatory Impact Review/Initial Regulatory Flexibility Analysis (RIR/IRFA) (collectively referred to as the “Analysis”) and the Categorical Exclusion prepared for this proposed rule may be obtained from http://www.regulations.gov or from the NMFS Alaska Region Web site at http://alaskafisheries.noaa.gov.

Written comments regarding the burden-hour estimates or other aspects of the collection-of-information requirements contained in this proposed rule may be submitted to NMFS (see ADDRESSES) and by email to OIRA_Submission@omb.eop.gov or fax to (202) 395-5806.

FOR FURTHER INFORMATION CONTACT: Keeley Kent, 907-586-7228.

SUPPLEMENTARY INFORMATION:

Authority for Action

NMFS Alaska Region manages the U.S. groundfish fisheries in the Exclusive Economic Zone off Alaska under the BSAI FMP and the GOA FMP. The FMPs were prepared by the North Pacific Fishery Management Council, under authority of the Magnuson-Stevens Fishery Conservation and Management Act, 16 U.S.C. 1801 et seq. (Magnuson-Stevens Act) and other applicable laws, and approved by the Secretary of Commerce. NMFS is authorized under both groundfish FMPs to implement recordkeeping and reporting requirements that are necessary to provide the information needed to conserve and manage the groundfish fisheries off Alaska. Regulations implementing the FMPs appear at 50 CFR part 679. General regulations that pertain to U.S. fisheries appear at subpart H of 50 CFR part 600. Recordkeeping and reporting regulations appear at § 679.5.

Background

This proposed rule is organized into four actions. Under the first action, NMFS would implement a requirement for tender vessel operators to use tLandings. Under the second action, NMFS would modify the definition of buying station so that tender vessels and land-based buying stations are differentiated under the regulations. Under the third action, NMFS would remove the requirement for buying stations to complete the buying station report. Under the fourth action, NMFS would modify the definition of a mothership to simplify the unnecessary paragraph formatting. The following sections of the preamble describe: (1) Background on the Interagency Electronic Reporting System, tendering, and tLandings; (2) the need for action; and (3) the proposed rule and its anticipated effects.

Interagency Electronic Reporting System

The Interagency Electronic Reporting System (IERS) is a collaborative program for reporting commercial fishery landings administered by NMFS, Alaska Department of Fish and Game (ADF&G), and the International Pacific Halibut Commission. The IERS consists of three main components: eLandings—a web-based application for immediate harvest data upload from internet-capable vessels or processors; seaLandings—a desktop application for vessels at sea without internet capability which transmits reports by satellite phone; and tLandings—a software application for tender vessels that records landings data on a USB flash drive (“thumb-drive”) that includes all of the data fields required under IERS. Current regulations require that landing reports be submitted via eLandings, or seaLandings for halibut, sablefish, and crab fisheries (§ 679.5(e)(5)). NMFS requires all shoreside or floating processors that hold a Federal processing permit (FPP) to use eLandings or other NMFS-approved software to submit landing reports for all groundfish species. All motherships holding a Federal fisheries permit (FFP) are required to enter landing information in eLandings, unless an internet connection is not available. seaLandings may be used when an internet connection is not available. Catcher/processors with an FFP are required to use eLandings, or seaLandings (when no internet connection is available), to submit Daily Production Reports.

NMFS has identified electronic reporting through eLandings as a way to improve data quality, automate processing of data, improve the process for correcting or updating information, allow for the availability of more timely data for fishery managers, and reduce duplicative reporting of similar information to multiple agencies.

Tendering

A tender vessel is defined under § 679.2 as a vessel that is used to transport unprocessed fish or shellfish received from another vessel to an associated processor. An associated processor is defined under § 679.2 as having a contractual relationship with a buying station to conduct groundfish buying station activities for that processor. The contractual relationship in the Federal regulations creates joint responsibility for recordkeeping and reporting. A tender vessel is also included under the definition of a buying station, which receives unprocessed groundfish from a vessel for delivery to a shoreside processor, stationary floating processor, or mothership, but does not process fish (§ 679.2). Buying stations include both tender vessels and land-based entities. The practice of tendering allows a fishing vessel to deliver its catch to another vessel and resume fishing without the delay associated with traveling to port and returning to the fishing area. One tender vessel can service multiple fishing vessels, depending on its capacity and the regulations that limit tendering. For more information on tendering, see Section 1.5 of the Analysis.

Since tender vessels transport harvested fish to a processor and do not process the fish themselves, they are currently not required to participate in the IERS. Currently, tender vessels provide a written landing report for each delivery, commonly known as a “fish ticket” to the processor on delivery; the processor then prepares a cumulative landing report in eLandings. Although there is an optional field in the eLandings landing report for tender vessel identification number, processors are not required to identify tender vessel deliveries. If the tender vessel is not identified, NMFS cannot distinguish a tender vessel delivery to a processor from a vessel delivery to a processor.

The State of Alaska (State) allows vessels to contract with other vessels to receive fish from some fisheries managed by the State and deliver that fish to processors located within the State's jurisdiction. Unlike tenders, these vessels do not have a contract or association with a processor to transport unprocessed fish received from another vessel to a processor. Vessels engaging in this activity are called “transporters” under State regulations. The State created the statutory and regulatory authority for vessels to operate as transporters in 2003. Transporters must have a transporter permit from ADF&G, and, under a contractual arrangement with the vessel, are considered agents of the vessel. Because of the requirement in § 679.2 for a contractual relationship with a processor, a vessel acting as a transporter under the State definition would not be categorized as a tender vessel under the Federal regulations. Therefore, none of the requirements that apply to tenders would apply to vessels operating as a transporter under State regulations, and the provisions of this proposed rule that apply to tenders would not apply to transporters. See Sections 1.5.3 and 1.6.1 of the Analysis for further description and discussion of transporters.

tLandings

tLandings is a computer application used on computers onboard tender vessels. tLandings was developed for use on tender vessels without internet access. The tLandings application is loaded onto a thumb drive and configured with a list of the authorized users, the processor's vessel list, and a species list, and includes the option for the processor to add a price list. The tender vessel operator would create the landing reports and store them on the thumb drive. Once the tender vessel trip is completed, the tender vessel operator would provide the thumb drive to the processor for upload into the eLandings repository database. The processor would then upload the eLandings landing report to a NMFS central server. This system requires one-time data entry on the tender vessel and the information is transferred to the processor, and then to the agency via eLandings. Digital harvest reports improve catch accounting and streamline the process. Though the use of tLandings is currently voluntary, a growing number of tender vessels and processors are using tLandings (see Section 1.4 of the Analysis).

Under the current regulations, the processor is responsible for reporting the information provided by the tender vessel on the fish ticket. The processor provides a booklet of fish tickets to associated tender vessels with the processor identification number printed on them. The tender vessel operator completes the fish ticket for each delivery and returns the fish tickets to the processor at the time of offload. Should the tender vessel submit an incorrect fish ticket, the processor would be responsible for tracking down the tender vessel to correct the information.

In November 2015, ADF&G adopted State regulations to require the use of tLandings for tender vessels who have submitted more than 2,000 salmon fish tickets or bought over 20 million pounds of salmon in 2012, 2013, or 2014, and for all groundfish delivered to tender vessels. ADF&G estimated that roughly 55 tender vessels would meet the threshold for the new regulation, but many already used tLandings for halibut and sablefish, salmon, and groundfish reporting. The State tLandings requirement became effective January 2016.

Need for Action

When a tender vessel receives catch from a vessel, the tender vessel operator completes a paper fish ticket. Once the transfer is complete, the vessel operator signs the paper fish ticket acknowledging the transfer of catch and agreeing to the information provided. When the tender vessel delivers the catch to the processor, the tender vessel operator provides the paper fish ticket to the processor. The processor then verifies the information and manually enters the fish ticket data into eLandings to create a landing report. Landing reports are required to be submitted to NMFS by noon of the day following the delivery. The processor's manual entry of fish ticket data, including review and correction of the data, sometimes makes it difficult for the processor to meet this submission deadline and can delay the availability of the tender vessel landing data to NMFS.

The lack of electronic data from tenders reduces data reliability and timeliness. Additionally, with the lack of electronic data from tenders, NMFS is unable to differentiate deliveries to tender vessels from deliveries to processors unless the processor voluntarily enters the tender vessel identification number in the eLandings report. NMFS has, in the past, raised concerns about landings data reliability and timeliness in analyses presented to the Council and fishery participants.

Data timeliness and reliability are paramount to effective inseason management. Almost real-time access to the data is particularly important for fast-paced fisheries that operate under small total allowable catch limits, constraining prohibited species catch (PSC) limits, or that have inconsistent and unpredictable levels of fishing effort. NMFS requires timely data for the successful management of these fisheries. In addition, NMFS uses timely data for any catch share program that involves transferable allocations of target species. NMFS inseason management and Office of Law Enforcement (OLE) rely on the data provided through eLandings to monitor compliance with requirements that quota holders not exceed their allocations. Management and enforcement of PSC-limited and catch share fisheries become more difficult when data access is delayed. For more information on the potential implications of the lack of electronic data entry on management, see Sections 1.3 and 2.4 of the Analysis.

This proposed rule would require tenders to use tLandings. The mandatory use of tLandings would provide a streamlined data entry mechanism that ensures efficient, precise data transmission. This action is necessary to enable NMFS to identify tender vessel deliveries and to provide reliable, expeditious data for catch accounting and inseason management of fisheries with tender vessel deliveries.

This Proposed Rule and the Anticipated Effects

Action 1: Require Tender Vessel Operators To Use tLandings

Under Action 1 of this proposed rule, tender vessel operators would be required to use tLandings to prepare electronic landing reports. Action 1 is necessary to improve data quality for deliveries made to tender vessels.

Under this proposed rule, the eLandings user (defined as a representative of a processor under § 679.2, i.e. an employee) would be required to supply the tender vessel operator with a “configured” tLandings application for computer installation prior to the tender vessel operator taking delivery of fish or shellfish from a fishing vessel. A configured tLandings application would be preloaded with a list of the authorized users, the processor's vessel list, a species list, and other useful data for the associated processor and tender vessel operator. The tender vessel operator would record the required information in tLandings for each delivery the tender vessel accepted. Once the tender vessel delivered the catch to the associated processor, the user (as defined at 679.2) would be required to complete the eLandings landing report by uploading the tLandings data through the Processor Tender Interface component of eLandings by 1200 hours, Alaska local time, of the day following the completion of the delivery. The processor would be subject to the time limits for data submission specified under § 679.5(e). Different time limits for data submission would apply depending on the type of processor, (i.e., there are differing submission time limit requirements for shoreside processors or stationary floating processors, motherships, individual fishing quota (IFQ) registered buyers, or registered crab receivers).

The tender vessel operator would be responsible for completing the tLandings landing report and submitting it to the processor. This would create a joint responsibility for the tLandings landing report information for the tender vessel operator and the processor. Section 1.9.4 of the Analysis provides additional detail on the monitoring and enforcement of the tLandings requirements.

Under this proposed rule, the general costs associated with requiring tender vessels to enter landing reports into tLandings are mainly attributable to equipment and training. NMFS assumes that tender vessels are likely to pay the costs for equipment and training (see Section 1.9.1.1 of the Analysis). To use tLandings, each tender vessel would need a laptop computer with a numeric key pad, a basic laser printer with ink cartridges and paper, a magstripe reader, and thumb drives that contain the tLandings application. NMFS estimates that using tLandings would increase the annual cost to tender vessels from $1,000 to $2,300. See Section 1.9.1.1 of the Analysis for more information on the estimated cost of equipment.

Operating the tLandings application requires some training and practice for both the tender vessel operators and processor staff. NMFS assumes that the initial and ongoing training costs to use tLandings would likely be shared by NMFS and the processor using tender vessels. NMFS may bear an initial cost for training processors on the use of tLandings, after which it would be the processors' responsibility to provide training for their tender vessel operators. NMFS estimates that it would require a full day of initial training for new tLandings users. Section 1.9.1.2 of the Analysis describes projected training costs in more detail.

Under this proposed rule, the tLandings requirement would reduce data entry errors and the time required to manually enter fish tickets. Requiring tLandings would reduce the likelihood of a processor needing to recall a tender vessel if a fish ticket is illegible or incorrectly filled out. Additionally, requiring tLandings would eliminate the need for comprehensive manual data entry by processor staff, simplifying and expediting the data transmission to NMFS. Because processors are already subject to an eLandings reporting requirement, processors likely have staff proficient with the IERS software, so there would be little additional training required for the tLandings requirement.

The ability for processors to upload the completed data from tLandings into IERS through eLandings means that landing data can be provided to NMFS more quickly and with greater reliability than the current paper-based reporting system. As Section 1.9 of the Analysis describes, the use of electronic data greatly reduces the likelihood of data entry errors and ensures data consistency and reliability, thereby reducing the costs and time required for NMFS or ADF&G staff to correct and verify data. Additionally, the data provided by the tLandings requirement would allow the Observer Program to more effectively identify deliveries to tenders for purposes of observer deployment to vessels within the partial coverage category.

Section 1.4 of the Analysis describes that some tender vessels are voluntarily using tLandings to report federal groundfish landings, and many are required to use tLandings to report landings made in State-managed fisheries. Therefore, the total additional costs and burden on tender vessel operations may be limited. Section 1.5.1 of the Analysis estimates that 30 tender vessels received Federal groundfish in the BSAI and GOA in 2015. Those tender vessels delivered to eight processors. Many tender vessels that operate in the Federal groundfish fisheries also operate in the State groundfish fisheries. Under State regulations these tender vessels are already subject to a State tLandings requirement and may already be equipped with tLandings from ADF&G. In 2015, 21 of the 30 tender vessels also took delivery of State groundfish. NMFS expects that there would be minimal additional cost for these tender vessels to also use tLandings for Federal groundfish. The eight processors that received Federal groundfish from tender vessels in 2015 also received State groundfish from tender vessels; therefore the effect of this proposed rule on processors is estimated to be minimal. Based on the most recent data from 2015, the tLandings requirement under this proposed rule would affect nine tender vessels.

Under this proposed rule, NMFS would add a data field to the tLandings application to track the location of tenders when they take deliveries from vessels. The tender vessel operator would be required to report the vessel's latitude and longitude at the time of each vessel delivery. This data is necessary to improve information on tender vessel activity in the GOA and vessel delivery patterns when delivering to a tender vessel as opposed to a processor. This data field is not expected to add a reporting burden on tender vessel operators.

Action 2: Differentiate Tender Vessels From Buying Stations

Under Action 2 of this proposed rule, NMFS would revise the definitions of tender vessel and buying station for improved clarity. Currently, under § 679.2, the definition of a buying station includes both tender vessels and land-based buying stations. Under § 679.2, tender vessel is separately defined as a vessel used to transport unprocessed fish or shellfish received from another vessel to an associated processor. While many recordkeeping and reporting requirements that apply to buying stations should include both tender vessels and land-based buying stations, not all of the reporting requirements that apply to buying stations should apply to both tender vessels and land-based buying stations. Additionally, while a tender vessel may be associated with a shoreside processor, stationary floating processor, or mothership, a land-based buying station is only associated with a shoreside processor. Under Action 2, this proposed rule would revise the definitions of buying station and tender vessel to ensure that the reporting requirements that are applicable to tender vessels and land-based buying stations are clear to the public. Action 2 would not revise or modify the specific provisions of reporting requirements, but provide clarity on who is responsible for each requirement.

Action 3: Remove the Buying Station Report Requirement

Under Action 3 of this proposed rule, NMFS would remove the requirement in § 679.5(d) for a buying station to submit a Buying Station Report. The most recent year of landing report data in 2015, show that all 54 active buying stations are associated with shoreside processors that use eLandings. NMFS receives the landing data it needs through eLandings, and so does not need to require that the data be submitted in a Buying Station Report. The Buying Station Report would be removed from the regulations. Removing the requirement to submit a Buying Station Report removes a duplicative reporting requirement and reduces the burden on the regulated public. Buying stations will continue to be required to submit landing reports using eLandings.

To implement proposed Action 3, NMFS would modify references in the regulations to clarify whether certain recordkeeping and reporting requirements apply to tender vessels, buying stations, or both. Additionally, NMFS will remove the qualifier `land-based' from references to buying stations where found in the regulations because buying station is defined in the regulations as a land-based entity. Finally, NMFS will revise the definition of “manager” to effectively include “stationary floating processor” managers.

Action 4: Revise Mothership Definition

Under Action 4 of this proposed rule, the definition of mothership in § 679.2 would be revised to simplify the structure of the definition by moving the text of paragraph (1) into the main body of the definition and deleting reserved paragraph (2). This minor technical correction does not substantively change the definition of a mothership.

Classification

Pursuant to section 304(b)(1)(A) and section 305(d) of the Magnuson-Stevens Act, the NMFS Assistant Administrator has determined that this proposed rule is consistent with the BSAI FMP, the GOA FMP, other provisions of the Magnuson-Stevens Act, and other applicable law, subject to further consideration of comments received during the public comment period.

This proposed rule has been determined to be not significant for the purposes of Executive Order 12866.

An IRFA was prepared, as required by section 603 of the Regulatory Flexibility Act. The IRFA describes the economic impact this proposed rule, if adopted, would have on small entities. Copies of the IRFA are available from NMFS (see ADDRESSES).

The IRFA describes this proposed rule, why this rule is being proposed, the objectives and legal basis for this proposed rule, the type and number of small entities to which this proposed rule would apply, and the projected reporting, recordkeeping, and other compliance requirements of this proposed rule. It also identifies any overlapping, duplicative, or conflicting Federal rules and describes any significant alternatives to this proposed rule that would accomplish the stated objectives of the Magnuson-Stevens Act and other applicable statues and that would minimize any significant adverse economic impact of this proposed rule on small entities. The description of this proposed rule, its purpose, and its legal basis are described in the preamble and are not repeated here.

Number and Description of Small Entities Regulated by This Proposed Rule

For Regulatory Flexibility Act purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide.

The Small Business Act (SBA) has established size criteria for all other major industry sectors in the United States, including fish processing businesses. A seafood processor is a small business if it is independently owned and operated, not dominant in its field of operation, and employs 750 or fewer persons on a full-time, part-time, temporary, or other basis, at all its affiliated operations worldwide. A wholesale business servicing the fishing industry is a small business if it employs 100 or fewer persons on a full-time, part-time, temporary, or other basis, at all its affiliated operations worldwide.

Action 1 of the proposed rule would affect tender vessels and processors that receive deliveries of groundfish from tender vessels. For the purposes of the IRFA, a tender vessel is categorized as a wholesale business servicing the fishing industry. Most tender vessels are independently owned and operated entities that are contracted with processors. The exceptions are tender vessels owned by processors. NMFS does not have data on the number of employees on tender vessels, and therefore will conservatively assume all tender vessels that are independently owned and operated are small entities.

Of the 30 tender vessels affected by this action, five are owned by processors so do not qualify as a small entity. Therefore, there are 25 tender vessels that are small entities under the SBA definition. In 2015, there were 8 processors that received groundfish deliveries from tender vessels. None of these processors affected by this action qualify as small entities for the purposes of the SBA.

Action 2 of the proposed rule would not add new requirements for tender vessels or buying stations; it would only clarify which requirements the entities are subject to. Therefore this action would be expected to have a small positive impact. This action would affect the 30 tender vessels and 54 buying stations that were active in 2015.

Action 3 of the proposed rule would remove a requirement on participants that is not currently used; therefore, it would be expected to have no effect on participants.

Action 4 of the proposed rule would revise the definition of mothership to make it more straightforward and would not modify the definition in a substantive way; therefore, it would be expected to have no effect on participants.

Recordkeeping and Reporting Requirements

This proposed rule would require modifications to the current recordkeeping and reporting requirements in the Alaska Interagency Electronic Reporting System collection (OMB Control Number 0648-0515). The modifications would include requiring tender vessel operators to complete the data fields on the tLandings tender workstation application for each delivery the tender vessel accepts from a vessel. Additionally, the tender vessel operator would be required to provide the completed tLandings application to the processor on delivery. The processor would then be required to upload the information provided by the tender vessel operator in the tLandings application into the eLandings landing report.

This proposed rule would remove the Buying Station Report requirement. NMFS receives the landing data it needs through eLandings, and does not need the data submitted in the Buying Station Report. The Buying Station Report would be discontinued from any future use. Removing the requirement to submit a Buying Station Report removes a duplicative reporting requirement and reduces the burden on the regulated public. Buying stations will continue to be required to submit landing reports using eLandings.

Federal Rules That May Duplicate, Overlap, or Conflict With This Proposed Rule

The Analysis did not reveal any Federal rules that duplicate, overlap, or conflict with this proposed rule.

Description of Significant Alternatives to This Proposed Rule That Minimize Economic Impacts on Small Entities

An IRFA also requires a description of any significant alternatives to this proposed rule that would accomplish the stated objectives, are consistent with applicable statutes, and that would minimize any significant economic impact of this proposed rule on small entities. Under each action, NMFS considered two alternatives—the no action alternative and the action alternative. NMFS did not identify any other alternatives that would meet the objectives of these actions at a lower cost and reduced economic impact on small entities. The no action alternative for Action 1 would maintain the existing process of tender vessel operators completing paper fish tickets for each delivery and giving the information to the processor to transcribe and upload into eLandings. Maintaining the manual writing and submission of tender delivery data would not meet the objective of providing timely and accurate landing data. To help reduce the burden of this proposed regulation on small entities for electronic recordkeeping and reporting, NMFS would minimize the cost by developing the tLandings tender workstation application and providing that at no cost to participants to provide services and products useful to the industry, and by providing user support and training. The action alternatives for Actions 2, 3, and 4 have been determined to have either a small positive effect or no effect on participants, and therefore are not discussed further.

Collection-of-Information Requirements

This proposed rule contains collection-of-information requirements subject to review and approval by the Office of Management and Budget (OMB) under the Paperwork Reduction Act (PRA). NMFS has submitted these requirements to OMB for approval under Control Number 0648-0515. Public reporting burden is estimated to average per response: 15 minutes for IERS application processor registration; 35 minutes for eLandings landing report; 35 minutes for manual landing report; 15 minutes for catcher/processor or mothership eLandings production report; and 35 minutes for tLandings landing report.

Public comment is sought regarding: whether these proposed collections of information are necessary for the proper performance of the functions of the agency, including whether the information shall have practical utility; the accuracy of the burden statement; ways to enhance quality, utility, and clarity of the information to be collected; and ways to minimize the burden of the collection of information, including through the use of automated collection techniques or other forms of information technology. Send comments on these or any other aspects of the collection of information, to NMFS (see ADDRESSES), and by email to OIRA_Submission@omb.eop.gov or fax to 202-395-5806.

Notwithstanding any other provision of the law, no person is required to respond to, nor shall any person be subject to penalty for failure to comply with, a collection of information subject to the requirement of the PRA, unless that collection of information displays a currently valid OMB control number. All currently approved NOAA collections of information may be viewed at: http://www.cio.noaa.gov/services_programs/prasubs.html.

List of Subjects in 50 CFR Part 679

Alaska, Fisheries, Reporting and recordkeeping requirements.

Samuel D. Rauch III,
Deputy Assistant Administrator for Regulatory Programs National Marine Fisheries Service.

For the reasons set out in the preamble, NMFS proposes to amend 50 CFR part 679 as follows:

PART 679—FISHERIES OF THE EXCLUSIVE ECONOMIC ZONE OFF ALASKA

1. The authority citation for 50 CFR part 679 continues to read as follows:

Authority: 16 U.S.C. 773 et seq.; 1801 et seq.; 3631 et seq.; Pub. L. 108-447; Pub. L. 111-281.

2. In § 679.2, revise the definitions for “Buying station”, “Manager”, “Mothership”, “Tender vessel”, and “User” to read as follows:

§ 679.2 Definitions.

* * * * *

Buying station means a land-based entity that receives unprocessed groundfish from a vessel for delivery to a shoreside processor and that does not process those fish.

* * * * *

Manager, with respect to any shoreside processor, stationary floating processor, or buying station, means the individual responsible for the operation of the processor or buying station.

* * * * *

Mothership means a vessel that receives and processes groundfish from other vessels.

* * * * *

Tender vessel means a vessel that is used to transport unprocessed fish or shellfish received from another vessel to an associated processor.

* * * * *

User means, for purposes of IERS and its components including eLandings and tLandings, an individual representative of a Registered Buyer; a Registered Crab Receiver; a mothership or catcher/processor that is required to have a Federal Fisheries Permit (FFP) under § 679.4; a shoreside processor or SFP and mothership that receives groundfish from vessels issued an FFP under § 679.4; any shoreside processor or SFP that is required to have a Federal processor permit under § 679.4; and his or her designee(s).

* * * * *

3. In § 679.5,

a. Revise paragraph (c)(6)(i),

b. Remove paragraphs (c)(6)(viii)(E)

c. Revise paragraphs (e)(3)(i), and (e)(5)(i)(A)(7);

d. Add paragraph (e)(14)

e. Remove and reserve paragraph (d).

The addition and revisions to read as follows:

§ 679.5 Recordkeeping and reporting (R&R).

* * * * *

(c) * * *

(6) * * *

(i) Responsibility. Except as described in paragraph (f)(1)(v) of this section, the operator of a mothership that is required to have an FFP under § 679.4(b), or the operator of a CQE floating processor that receives or processes any groundfish from the GOA or BSAI from vessels issued an FFP under § 679.4(b), is required to use a combination of mothership DCPL and eLandings to record and report daily processor identification information, delivery information, groundfish production data, and groundfish and prohibited species discard or disposition data. The operator must enter into the DCPL any information for groundfish received from catcher vessels, groundfish received from processors for reprocessing or rehandling, and groundfish received from a tender vessel.

* * * * *

(e) * * *

(3) * * *

(i) Operation type. Select the operation type from the dropdown list.

* * * * *

(5) * * *

(i) * * *

(A) * * *

(7) If the delivery is received from a buying station, indicate the name of the buying station. If the delivery is received from a tender vessel, enter the ADF&G vessel registration number.

* * * * *

(14) Tender vessel landing report (“tLandings”). (i) tLandings is an applications software for preparing electronic landing reports for commercial fishery landings to tender vessels.

(ii) The operator of a tender vessel taking delivery of fish or shellfish that is required to be reported to NMFS on a landing report under § 679.5(e)(5) must use tLandings to enter information about each landing of fish or shellfish and must provide that information to the User defined under § 679.2.

(iii) The User must configure and provide the tender vessel operator with the most recent version of the tLandings tender workstation application prior to the tender vessel taking delivery of fish or shellfish.

(iv) The tender vessel operator must log into the configured tLandings tender workstation application and provide the information required on the computer screen. Additional instructions for tLandings is on the Alaska Region Web site at http://alaskafisheries.noaa.gov.

(v) Submittal time limit. (A) The tender vessel operator must provide the landing information in tLandings to the User at the commencement of the transfer or offload of fish or shellfish from the tender vessel to the processor.

(B) The User must upload the data recorded in tLandings by the tender vessel to prepare the initial landing report for a catcher vessel delivering to a tender vessel that is required under § 679.5(e) within the submittal time limit specified under § 679.5(e).

(vi) Compliance. By using tLandings, the User and the tender vessel operator providing information to the User accept the responsibility of and acknowledge compliance with § 679.7(a)(10).

* * * * *

4. In § 679.7, revise paragraph (a)(11) to read as follows:

§ 679.7 Prohibitions.

* * * * *

(a) * * *

(11) Buying station or tender vessel—(i) Tender vessel. Use a catcher vessel or catcher/processor as a tender vessel before offloading all groundfish or groundfish product harvested or processed by that vessel.

(ii) Associated processor. Function as a tender vessel or buying station without an associated processor.

* * * * *

5. Revise table 13 to part 679 to read as follows:

Table 13 to Part 679—Transfer Form Summary
If participant type is * * * | And has * * * Fish product onboard | And is involved in this activity | VAR ¹ | PTR ² | Trans-ship ³ | Departure report ⁴ | Dockside sales receipt ⁵ | Landing receipt ⁶
Catcher vessel greater than 60 ft LOA, mothership, or catcher/processor | Only non-IFQ groundfish | Vessel leaving or entering Alaska | X
Catcher vessel greater than 60 ft LOA, mothership, or catcher/processor | Only IFQ sablefish, IFQ halibut, CDQ halibut, or CR crab | Vessel leaving Alaska |  |  |  | X
Catcher vessel greater than 60 ft LOA, mothership, or catcher/processor | Combination of IFQ sablefish, IFQ halibut, CDQ halibut, or CR crab and non-IFQ groundfish | Vessel leaving Alaska | X |  |  | X
Mothership, catcher/processor, shoreside processor, or SFP | Non-IFQ groundfish | Shipment of groundfish product |  | X
Mothership, catcher/processor, shoreside processor, or SFP | Donated PSC | Shipment of donated PSC |  | X
Buying station or tender vessel | Groundfish | Receive or deliver groundfish in association with a shoreside processor, SFP, or mothership
Registered Buyer | IFQ sablefish, IFQ halibut, or CDQ halibut | Transfer of product |  | X
A person holding a valid IFQ permit, IFQ hired master permit, or Registered Buyer permit | IFQ sablefish, IFQ halibut, or CDQ halibut | Transfer of product |  |  |  |  | XXX
Registered Buyer | IFQ sablefish, IFQ halibut, or CDQ halibut | Transfer from landing site to Registered Buyer's processing facility |  |  |  |  |  | XX
Vessel operator | Processed IFQ sablefish, IFQ halibut, CDQ halibut, or CR crab | Transshipment between vessels |  |  | XXXX
Registered Crab Receiver | CR crab | Transfer of product |  | X
Registered Crab Receiver | CR crab | Transfer from landing site to RCR's processing facility |  |  |  |  |  | XX
¹ A vessel activity report (VAR) is described at § 679.5(k).
² A product transfer report (PTR) is described at § 679.5(g).
³ An IFQ transshipment authorization is described at § 679.5(l)(3).
⁴ An IFQ departure report is described at § 679.5(l)(4).
⁵ An IFQ dockside sales receipt is described at § 679.5(g)(2)(iv).
⁶ A landing receipt is described at § 679.5(e)(8)(vii).
X indicates under what circumstances each report is submitted.
XX indicates that the document must accompany the transfer of IFQ species from landing site to processor.
XXX indicates receipt must be issued to each receiver in a dockside sale.
XXXX indicates authorization must be obtained 24 hours in advance.

* * * * *

§ § 679.2, 679.5, 679.7, 679.51 [Amended]

6. At each of the locations shown in the “Location” column, remove the phrase indicated in the “Remove” column and replace it with the phrase indicated in the “Add” column for the number of times indicated in the “Frequency” column.

Location | Remove | Add | Frequency
§ 679.2 “Agent” (1) | buying station | buying station, tender vessel | 1
§ 679.2 “Agent” (2) | buying station | buying station or tender vessel | 1
§ 679.2 “Associated processor” | buying station | buying station or tender vessel | 3
§ 679.2 “Shoreside processor” | buying stations | buying stations, tender vessels | 1
§ 679.5(a)(2)(i) | or buying station | buying station, or tender vessel | 2
§ 679.5(a)(2)(ii) | or buying station | buying station, or tender vessel | 1
§ 679.5(a)(3)(ii) | catcher vessels and buying stations | catcher vessels, buying stations, and tender vessels | 1
§ 679.5(a)(3)(iii) | catcher vessel or buying station | catcher vessel, buying station, or tender vessel | 1
§ 679.5(b) | or buying station | buying station, or tender vessel | 2
§ 679.5(c)(1)(vi)(B)(4) | or buying station | buying station, or tender vessel | 1
§ 679.5(c)(3)(ii)(A)(3) | or buying station | buying station, or tender vessel | 1
§ 679.5(c)(3)(viii) | buying station | buying station, tender vessel | 1
§ 679.5(c)(3)(x) | buying station | buying station, tender vessel | 1
§ 679.5(c)(4)(ii)(A)(3) | or buying station | buying station, or tender vessel | 1
§ 679.5(c)(4)(viii) | buying station | buying station, tender vessel | 1
§ 679.5(c)(4)(x) | buying station | buying station, tender vessel | 1
§ 679.5(c)(6)(ii)(A) | buying station | tender vessel | 1
§ 679.5(c)(6)(vi) introductory text | buying station | tender vessel | 1
§ 679.5(c)(6)(vi)(A) | buying station | tender vessel | 1
§ 679.5(c)(6)(vi)(B) | buying station | tender vessel | 1
§ 679.5(c)(6)(vi)(C) | buying station | tender vessel | 1
§ 679.5(c)(6)(vi)(F) | buying station | tender vessel | 1
§ 679.5(c)(6)(vi)(H) | buying station | tender vessel | 2
§ 679.5(c)(6)(vii) | buying station | tender vessel | 1
§ 679.5(c)(6)(viii)(A) | buying station | tender vessel | 1
§ 679.5(e)(3)(viii) | buying station | buying station, tender vessel, | 1
§ 679.5(e)(5)(i) introductory text | buying station | buying station or tender vessel | 1
§ 679.5(e)(5)(i)(A)(6) | buying station | buying station or tender vessel | 1
§ 679.5(e)(5)(i)(C)(1) | buying station | buying station or tender vessel | 1
§ 679.5(e)(5)(iii) | buying station | buying station or tender vessel | 1
§ 679.5(e)(6)(i) introductory text | buying station | tender vessel | 1
§ 679.5(e)(6)(i)(B)(1) | buying station | tender vessel | 1
§ 679.5(e)(6)(iii) | buying station | tender vessel | 1
§ 679.5(f)(1)(v) | buying station | tender vessel | 1
§ 679.5(f)(5)(ii) | buying station | buyer station or tender vessel | 1
§ 679.5(p)(1) | buying station | tender vessel | 1
§ 679.7(d)(4)(i)(C) | buying station | buying station or tender vessel | 1
§ 679.51(e)(3) | or buying station | buying station, or tender vessel | 1
Table 1b to Part 679 | and buying stations | buying stations, and tender vessels | 1

[FR Doc. 2016-18110 Filed 7-29-16; 8:45 am]

BILLING CODE 3510-22-P